ENVIRONMENTAL PROTECTION AGENCY

[FRL-7069-9]

Amendment to Proposed Administrative Cashout Settlement Under Section 122(g) of the Comprehensive Environmental Response, Compensation, and Liability Act; In Re: Beede Waste Oil Superfund Site, Plaistow, NH

AGENCY: Environmental Protection Agency (EPA).

ACTION: Notice of amendment to proposed administrative settlement and request for public comment.

SUMMARY: In accordance with section 122(i) of the Comprehensive Environmental Response, Compensation, and Liability Act, as amended, 42 U.S.C. 9622(i), notice is hereby given of an amendment to the proposed administrative settlement for recovery of past and projected future response costs concerning the Beede Waste Oil Superfund Site in Plaistow, New Hampshire with the settling parties listed in the Supplementary Information portion of this notice. A notice for public comment for the proposed administrative settlement, which is embodied in a CERCLA section 122(g) Administrative Order on Consent (“AOC”), was published in the Federal Register on September 13, 2001 (Volume 66, Number 178) (66 FR 47670). This amendment is to add three additional settling parties listed in the Supplementary Information portion of this notice and to amend the aggregate total to approximately $1,662,814.40. For thirty (30) days following the date of publication of this amendment, the EPA will receive written comments relating to this amended notice of settlement. The EPA will consider all comments received and may modify or withdraw its consent to the settlement if comments received disclose facts or considerations which indicate that the settlement is inappropriate, improper, or inadequate. The EPA's response to any comments received will be available for public inspection at the EPA Records Center, 1 Congress Street, Boston, MA 02114-2023 (Telephone Number: 617-918-1440).

DATES: Comments must be submitted on or before November 5, 2001.

ADDRESSES: The proposed settlement is available for public inspection at the EPA Records Center, 1 Congress Street, Boston, MA 02114-2023. Please call 617-918-1440 to schedule an appointment. A copy of the proposed settlement may be obtained from Kristin Balzano, U.S. Environmental Protection Agency, Region I, 1 Congress Street, Suite 1100 (SES), Boston, MA 02114-2023 (Telephone Number: 617-918-1772). Comments should reference the Beede Waste Oil Superfund Site in Plaistow, New Hampshire and EPA Docket No. CERCLA-1-2001-0041 and should be addressed to Kristin Balzano, U.S. Environmental Protection Agency, Region I, 1 Congress Street, Suite 1100 (SES), Boston, MA 02114-2023.

FOR FURTHER INFORMATION CONTACT: Cindy Lewis, U.S. Environmental Protection Agency, Region I, 1 Congress Street, Suite 1100 (SES), Boston, MA 02114-2023 (Telephone Number: 617-918-1889).

SUPPLEMENTARY INFORMATION: The following is a list of the additional settling parties: D&Z Auto Repair, East Derry Garage Inc. d/b/a Dave Allen Lincoln-Mercury, and Sorco Corporation.

Dated: September 25, 2001.
Richard Cavagnero,
Deputy Director, Office of Site Remediation and Restoration, Region I.

[FR Doc. 01-24897 Filed 10-3-01; 8:45 am]

BILLING CODE 6560-50-P